DEPARTMENT OF THE INTERIOR

Fish and Wildlife Service

[FWS-HQ-IA-2013-N110; FXIA16710900000P5-123-FF09A30000]

Endangered Species; Marine Mammals; Receipt of Applications for Permit

AGENCY: Fish and Wildlife Service, Interior.

ACTION: Notice of receipt of applications for permit.

SUMMARY: We, the U.S. Fish and Wildlife Service, invite the public to comment on the following applications to conduct certain activities with endangered species, marine mammals, or both. With some exceptions, the Endangered Species Act (ESA) and Marine Mammal Protection Act (MMPA) prohibit activities with listed species unless Federal authorization is acquired that allows such activities.

DATES: We must receive comments or requests for documents on or before June 10, 2013. We must receive requests for marine mammal permit public hearings, in writing, at the address shown in the ADDRESSES section by June 10, 2013.

ADDRESSES: Brenda Tapia, Division of Management Authority, U.S. Fish and Wildlife Service, 4401 North Fairfax Drive, Room 212, Arlington, VA 22203; fax (703) 358-2280; or email DMAFR@fws.gov.

FOR FURTHER INFORMATION CONTACT: Brenda Tapia, (703) 358-2104 (telephone); (703) 358-2280 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), and the Marine Mammal Protection Act of 1972, as amended (16 U.S.C. 1361 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken. Under the MMPA, you may request a hearing on any MMPA application received. If you request a hearing, give specific reasons why a hearing would be appropriate. The holding of such a hearing is at the discretion of the Service Director.

III. Permit Applications

A. Endangered Species

Applicant: Los Angeles Zoo, Los Angeles, CA; PRT-03663B

The applicant requests a permit to import one captive-born female brush-tailed bettong (Bettongia penicillata) from Aqua Zoo Friesland, Netherlands, for the purpose of enhancement of the survival of the species.

Applicant: Spencer Scott, San Antonio, TX; PRT-01537B

The applicant requests a permit to import the sport-hunted trophy of one male black rhinoceros (Diceros bicornis) taken from a ranch in the Republic of South Africa, for the purpose of enhancement of the survival of the species.

Application: Santa Ana Zoo, Santa Ana, CA; PRT-96502A

The applicant requests a permit to export two captive bred golden lion tamarin (Leontopithecus rosalia) to the Wellington Zoo, New Zealand, for the purpose of enhancement of the propagation of the species.

Applicant: Matson's Laboratory, LLC., Milltown, MT; PRT-95363A

The applicant requests a permit to import teeth obtained from wild salvaged specimens of African wild dog (Lycaon pictus) for the purpose of enhancement of the survival of the species/scientific research.

Applicant: Delorce Bennett, Awendaw, SC; PRT-119213

The applicant requests renewal and amendment of their captive-bred wildlife registration under 50 CFR 17.21(g) for the golden parakeet (Guarouba guarouba), Cuban parrot (Amazona leucocephala) and Vinaceous parrot (Amazona vinacea) to enhance their propagation or survival. This notification covers activities to be conducted by the applicant over a 5-year period.

Applicant: World Center for Exotic Birds, Las Vegas, NV; PRT-787054

The applicant requests renewal of their captive-bred wildlife registration under 50 CFR 17.21(g) for Andean condor (Vultur gryphus) to enhance their propagation or survival. This notification covers activities to be conducted by the applicant over a 5-year period.

Applicant: Susan Minor, Medina, TX; PRT-04775B

The applicant requests a permit authorizing interstate and foreign commerce, export, and cull of excess scimitar-horned oryx (Oryx dammah) from the captive herd maintained at their facility, for the purpose of enhancement of the survival of the species. This notification covers activities to be conducted by the applicant over a 5-year period.

Applicant: Zoo Atlanta, Atlanta, GA; PRT-04821B

The applicant requests a permit to export two male captive-bred giant pandas (Ailuropoda melanoleuca) born at the zoo in 2004 and 2010, which are owned by the Government of China, to the Chengdu Research Base of Giant Panda Breeding. The applicant would also like to export frozen semen from the male panda Yang Yang held at the zoo; both exports are under the terms of Zoo Atlanta loan agreement with the Chinese Association of Zoological Gardens, Ministry of Construction, the China Wildlife Conservation Association, and the State Forestry Administration. These exports are part of the approved loan program for the purpose of enhancement of the survival of the species through scientific research as outlined in Zoo Atlanta's original permit.

Applicant: Sunset Zoo, Manhattan, KS; PRT-679476

The applicant requests renewal of their captive-bred wildlife registration under 50 CFR 17.21(g) for the following families and species, to enhance their propagation or survival. This notification covers activities to be conducted by the applicant over a 5-year period.

Families:

Cebidae

Felidae (does not include jaguar, margay, or ocelot)

Lemuridae

Gruidae

Psittacidae

Sturnidae

Species:

Maned wolf (Chrysocyon brachyurus)

Parma wallaby (Macropus parma)

Applicant: Brittany Boddington, Northridge, CA; PRT-04943B

The applicant requests a permit to import a sport-hunted trophy of one male bontebok (Damaliscus pygargus pygargus) culled from a captive herd maintained under the management program of the Republic of South Africa, for the purpose of enhancement of the survival of the species.

B. Endangered Marine Mammals and Marine Mammals

Applicant: Sea World Parks & Entertainment, Inc., Orlando, FL; PRT-03132B

The applicant requests a permit to import one female walrus (Odobenus rosmarus) that was captive bred at and would be exported by Dolfinarium Harderwijk, The Netherlands, for the purpose of public display at Sea World Orlando.

Concurrent with publishing this notice in the Federal Register, we are forwarding copies of the above applications to the Marine Mammal Commission and the Committee of Scientific Advisors for their review.

Brenda Tapia,
Program Analyst/Data Administrator, Branch of Permits, Division of Management Authority.

[FR Doc. 2013-11068 Filed 5-8-13; 8:45 am]

BILLING CODE 4310-55-P